DEPARTMENT OF COMMERCE

National Oceanic and Atmospheric Administration

RIN 0648-XV23

Fisheries of the South Atlantic and Gulf of Mexico; South Atlantic Fishery Management Council; Public Meeting

AGENCY: National Marine Fisheries Service (NMFS), National Oceanic and Atmospheric Administration (NOAA), Commerce.

ACTION: Notice of a public meeting.

SUMMARY: The South Atlantic Fishery Management Council (SAFMC) will hold a meeting of its Scientific and Statistical Committee (SSC) to make fishing level recommendations for black and red grouper, discuss Acceptable Biological Catch (ABC) Control Rules, and recommend ABC values for South Atlantic managed species. The meeting will be held in North Charleston, SC.

DATES: The meeting will be held April 20-22, 2010. See SUPPLEMENTARY INFORMATION for specific dates and times.

ADDRESSES: The meeting will be held at the Hilton Garden Inn, 5265 International Boulevard, North Charleston, SC 29418; telephone: (843) 308-9330.

Council address: South Atlantic Fishery Management Council, 4055 Faber Place Drive, Suite 201, North Charleston, SC 29405.

FOR FURTHER INFORMATION CONTACT: Kim Iverson, Public Information Officer, 4055 Faber Place Drive, Suite 201, North Charleston, SC 29405; telephone: (843) 571-4366; e-mail: Kim.Iverson@safmc.net.

SUPPLEMENTARY INFORMATION: Under the Magnuson-Stevens Reauthorized Act, the SSC is the body responsible for reviewing the Council's scientific materials. The SSC will receive reports on recent Southeast Data, Assessment, and Review (SEDAR) assessments of black grouper and Atlantic red grouper and will consider assessment findings in providing fishing level recommendations for the Council, in accordance with provisions of the Magnuson-Steven Reauthorized Act (MSRA). The SSC will also review available information on Council-managed stocks and provide recommendations for the Overfishing level (OFL) and the ABC for those stocks to be considered in the South Atlantic Council's Comprehensive Annual Catch Limit (ACL) Amendment addressing provisions of the MSRA.

SAFMC SSC Meeting Schedule:

April 20, 2010: 9 a.m. - 5 p.m.; April 21, 2010: 8 a.m. - 5 p.m.; April 22, 2010: 8 a.m. - 4 p.m.

Fishing level recommendations for South Atlantic black and red grouper will be developed during the SSC Meeting. Committee members will include SEDAR assessment results for these stocks in their analysis. Members will develop fishing level recommendations for black and red grouper, and ABC and OFL recommendations for South Atlantic managed species included within the Comprehensive ACL Amendment for SAFMC Council members.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 3 business days prior to the meeting.

Dated: March 11, 2010.
Tracey L. Thompson,
Acting Director, Office of Sustainable Fisheries, National Marine Fisheries Service.

[FR Doc. 2010-5723 Filed 3-15-10; 8:45 am]

BILLING CODE 3510-22-S